DEPARTMENT OF TRANSPORTATION

Federal Aviation Administration

Notice of Intent To Rule on Request To Release Airport Property at the Tri-Cities Regional Airport, Blountville, TN.

AGENCY: Federal Aviation Administration (FAA), DOT.

ACTION: Request for Public Comment.

SUMMARY: The Federal Aviation Administration is requesting public comment on the release of land at the Tri-Cities Regional Airport in the city of Blountville, Tennessee. This property, approximately 2.413 acres in Tract 45 and .0324 acres in Tract 65, will change to a non-aeronautical use. This action is taken under the provisions of Section 125 of the Wendell H. Ford Aviation Investment Reform Act for the 21st Century (AIR 21).

DATES: Comments must be received on or before November 26, 2010.

ADDRESSES: Documents are available for review at the Tri-Cities Regional Airport, 2525 Highway 75, Suite 301, Blountville, TN 37617 and the FAA Airports District Office, 2862 Business Park Drive, Building G, Memphis, TN 38118. Written comments on the Sponsor's request must be delivered or mailed to: Mr. Phillip J. Braden, Manager, Memphis Airports District Office, 2862 Business Park Drive, Building G, Memphis, TN 38118.

FOR FURTHER INFORMATION CONTACT: Mr. Michael Thompson, Program Manager, Federal Aviation Administration, Memphis Airports District Office, 2862 Business Park Drive, Building G, Memphis, TN 38118. The application may be reviewed in person at this same location, by appointment.

SUPPLEMENTARY INFORMATION: The FAA proposes to rule and invites public comment on the request to release property at the Tri-Cities Regional Airport, Blountville, TN under the provisions of AIR 21(49 U.S.C. 47107(h)(2)).

On October 5, 2010, the FAA determined that the request to release property at Tri-Cities Regional Airport submitted by the Tri-Cities Regional Airport's Director of Operations meets the procedural requirements of the Federal Aviation Administration. The FAA may approve the request, in whole or in part, no later than November 26, 2010.

The following is a brief overview of the request:

The Tri-Cities Regional Airport is proposing the release of approximately 2.445 acres of airport property so the property can be used to accommodate the widening of Tennessee State Highway 75.

Any person may inspect, by appointment, the request in person at the FAA office listed above under FOR FURTHER INFORMATION CONTACT.

In addition, any person may, upon appointment and request, inspect the request, notice and other documents germane to the request in person at the Tri-Cities Regional Airport.

Issued in Memphis, TN on October 6, 2010.
Phillip J. Braden,
Manager, Memphis Airports District Office, Southern Region.

[FR Doc. 2010-26952 Filed 10-25-10; 8:45 am]

BILLING CODE P